DEPARTMENT OF HEALTH AND HUMAN SERVICES

Centers for Disease Control and Prevention

Board of Scientific Counselors, Coordinating Center for Infectious Diseases (CCID)

In accordance with section 10(a)(2) of the Federal Advisory Committee Act (Pub. L. 92-463), the Centers for Disease Control and Prevention (CDC), announces the following meeting of the aforementioned committee:

Times and Dates:

9 a.m.-5 p.m., November 4, 2009 (Working Groups).

8:30 a.m.-3:30 p.m., November 5, 2009 (Full Board).

Place: Emory Conference Center, 1615 Clifton Road, NE., Atlanta, Georgia 30329, Telephone: (404) 712-6000.

Status: Open to the public, limited only by the space available.

Purpose: The Board of Scientific Counselors, CCID, provides advice and guidance to the Director, CDC, and Director, CCID, in the following areas: program goals and objectives; strategies; program organization and resources for infectious disease prevention and control; and program priorities.

Matters To Be Discussed: Agenda items will include:

1. Working Groups:Environmental Microbiology, research to guide public health practice (National Center for Preparedness, Detection, and Control of Infectious Diseases; National Center for Immunization and Respiratory Diseases (NCIRD); and National Center for Zoonotic, Vector-Borne, and Enteric Diseases (NCZVED) Morning Session); Strategic Plan (National Center for HIV/AIDS, Viral Hepatitis, STD, and TB Prevention); Review of Funding provided through the American Recovery and Reinvestment Act of 2009 (ARRA) for immunization programs funded under Section 317 of the Public Health Service Act (NCIRD Afternoon Session); Strategic Framework and Program Reviews and Strategies (NCZVED Afternoon Session).

2. Full Board:

H1N1 discussion; announcements and introductions; and follow-up on actions recommended by the board.

Agenda items are subject to change as priorities dictate.

Written comments are welcome and should be received by the contact person listed below prior to the opening of the meeting.

Contact Person For More Information: Harriette Lynch, Office of the Director, CCID, CDC, Mailstop E-77, 1600 Clifton Road, NE., Atlanta, Georgia 30333, e-mail: hlynch@cdc.gov, Telephone (404) 498-2726.

The Director, Management Analysis and Services office has been delegated the authority to sign Federal Register notices pertaining to announcements of meetings and other committee management activities, for both the Centers for Disease Control and Prevention and the Agency for Toxic Substances and Disease Registry.

Dated: October 8, 2009.
Andre Tyler,
Acting Director, Management Analysis and Services Office, Centers for Disease Control and Prevention.

[FR Doc. E9-24937 Filed 10-15-09; 8:45 am]

BILLING CODE 4163-18-P